DEPARTMENT OF DEFENSE

Department of the Navy

[USN-2007-0018]

Privacy Act of 1974; System of Records

AGENCY: Department of the Navy, DoD.

ACTION: Notice To Amend System of Records.

SUMMARY: The Department of the Navy is amending a system of records notice in its existing inventory of record systems subject to the Privacy Act of 1974, (5 U.S.C. 552a), as amended.

DATES: This proposed action will be effective without further notice on April 6, 2007 unless comments are received which result in a contrary determination.

ADDRESSES: Send comments to the Department of the Navy, PA/FOIA Policy Branch, Chief of Naval Operations (DNS-36), 2000 Navy Pentagon, Washington, DC 20350-2000.

FOR FURTHER INFORMATION CONTACT: Mrs. Doris Lama at (202) 685-6545.

SUPPLEMENTARY INFORMATION: The Department of the Navy systems of records notices subject to the Privacy Act of 1974, (5 U.S.C. 552a), as amended, have been published in the Federal Register and are available from the address above.

The specific changes to the record system being amended are set forth below followed by the notice, as amended, published in its entirety. The proposed amendments are not within the purview of subsection (r) of the Privacy Act of 1974, (5 U.S.C. 552a), as amended, which requires the submission of a new or altered system report.

Dated: February 28, 2007.
C.R. Choate,
Alternate OSD Federal Register Liaison Officer, Department of Defense.

NM01650-1

System name:

Department of the Navy (DON) Military Awards System (November 23, 2005, 70 FR 70597).

Changes:

* * * * *

System location:

Delete “(DNS-37)” and replace with “(DNS-35).”

Delete “http://neds.daps.dla.mil/sndl.htm.” and replace with “http://doni.daps.dla.mil/sndl.aspx.”

* * * * *

Authority for maintenance of the system:

Delete “1650.1G” and replace with “1650.1H”.

* * * * *

System manager(s) and address:

Delete “(DNS-37)” and replace with “(DNS-35)”.

* * * * *

Notification procedure:

Delete “(DNS-37)” and replace with “(DNS-35)”.

Record access procedures:

Delete “(DNS-37)” and replace with “(DNS-35)”.

* * * * *

NM01650-1

System name:

Department of the Navy (DON) Military Awards System.

System location:

Chief of Naval Operations (DNS-35), 2000 Navy Pentagon, Washington, DC 20350-2000; Headquarters, U.S. Marine Corps, Manpower and Reserve Affairs Department, Personnel Management Division, Military Awards Branch (MMMA), 3280 Russell Road, MCB Quantico, VA 22134-5103; and organizational elements of the Department of the Navy.

Official mailing addresses are published in the Standard Navy Distribution List that is available at http://doni.daps.dla.mil/sndl.aspx.

Categories of individuals covered by the system:

Navy Awards: All recipients of Navy and Marine Corps personal awards, to include the U.S. Coast Guard, Navy, and Marine Corps military personnel who receive personal awards from other U.S. Armed Forces.

Marine Corps Awards: Approved individual awards from 1917 to present; approved unit awards from 1941 to present; Awards Processing System contains digital information regarding awards approved by the Secretary of the Navy, the Commandant of the Marine Corps, and the various delegated awarding authorities throughout the Marine Corps from 2000 to present.

Individual records contain a copy of the approved personal award recommendation which contains the member's full name, Social Security Number, award recommended, award approved, unit assigned at the time of action or period of service, originator of the award recommendation, and a copy of the approved award citation/certificate.

Tertiary records include paper records and microfilmed records which contain the member's full name, service number or Social Security Number, rank or grade recommended award, approved award, approval date originator of the award, the approval authority, period of the award, and chain of command information.

Categories of records in the system:

Approved individual personal awards for 1967 and continuing; approved unit awards for 1941 and continuing; Navy Department Awards Web Service—File includes awards approved by the Secretary of the Navy and those authorized for approval by subordinate commanders. Record includes service member's name, service number/Social Security Number, award recommended, and award approved. A second section of the file contains activities awarded Unit Awards and the dates of eligibility; microfilm copies of approved World War II—1967 personal awards; Navy Department Awards Web Service electronic data base that includes data extracted from OPNAV Form 1650/3, Personal Award Recommendation, such as name, Social Security Number, type of award, approval authority, recommended award, approved award, meritorious start and end dates, service status of recipient, originator of the recommendation, designator, Unit Identification Codes, officer or enlisted, service component, rate/rating, pay grade, number of award recommended, assigned billet of individual, campaign designation, classified or unclassified designated award, date of recommendation, award approved date, approved award, chain of command data, extraordinary heroism determination, letter type, board serial number, pertinent facts, date forwarded to Secretary of the Navy, Board's recommendation, participating command field, Board meeting data, receipt date by Board of Decorations and Medals, name of unit, name of ship, command points of contact that includes telephone numbers and email addresses, etc.

Authority for maintenance of the system:

10 U.S.C. 5013, Secretary of the Navy; 10 U.S.C. 5041, Headquarters, Marine Corps; Secretary of the Navy Instruction 1650.1H, Navy and Marine Corps Awards Manual; and E.O. 9397 (SSN).

Purpose(s):

To maintain records of military personal awards and unit awards and to electronically process award recommendations.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ that appear at the beginning of the Navy's compilation of systems of records notices apply to this system.

To public and private organizations, including news media, for the purpose of granting access and/or publicizing awards or honors.

Policies and practices for storing, retrieving, accessing, retaining, and disposing of records in the system:

Storage:

Electronic, paper, and microfilm records.

Retrievability:

Name, Social Security Number, and individual unit name.

Safeguards:

Automated database requires authorized access; password protected; some user sites only have read capability; designated user capability regarding add/delete/change functions. Paper and microfiche records are under the control of authorized personnel during working hours and the office space in which records are located is locked outside official working hours.

Retention and disposal:

Permanent. A duplicate copy of the active file is provided to the National Archives and Records Administration (NARA). History files for the years 1967 to 1989 have been transferred to NARA.

System manager(s) and address:

Navy Awards: Chief of Naval Operations (DNS-35), 2000 Navy Pentagon, Washington, DC 20350-2000.

Marine Corps Awards: Headquarters U.S. Marine Corps, Manpower and Reserve Affairs Department, Personnel Management Division, Military Awards Branch (MMMA), 3280 Russell Road, MCB Quantico, Virginia 22134-5103.

Notification procedure:

Individuals seeking to determine whether information about themselves is contained in this system of records should contact their local Personnel Support Activity or Personnel Support Detachment for a search of their Navy military personnel record or write to the Chief of Naval Operations (DNS-35) 2000 Navy Pentagon, Washington, DC 20350-2000.

Marine Corps personnel seeking to determine whether information about themselves is contained in this system of records should contact their unit administrative officer (G-1/S-1) for a search of their Service Record Book/Officer Qualification Record or write to Headquarters U.S. Marine Corps, Manpower and Reserve Affairs Department, Personnel Management Division, Military Awards Branch (MMMA), 3280 Russell Road, MCB Quantico, Virginia 22134-5103.

All other individuals seeking to determine whether information about themselves is contained in this system of records should contact either the Chief of Naval Operations, Navy Awards Branch (DNS-35), 2000 Navy Pentagon, Washington, DC 20350-2000 (for U.S. Navy awards) or Headquarters U.S. Marine Corps, Manpower and Reserve Affairs Department, Personnel Management Division, Military Awards Branch (MMMA), MCB Quantico, Virginia 22134-5103 (for U.S. Marine Corps awards).

Record access procedures:

Navy individuals seeking access to information about themselves contained in this system of records should contact their local Personnel Support Activity or Personnel Support Detachment for a search of their Navy military personnel record or write to the Chief of Naval Operations (DNS-35) 2000 Navy Pentagon, Washington, DC 20350-2000.

Marine Corps individuals seeking access to information about themselves contained in this system of records should contact their unit administrative officer (G-1/S-1) for a search of their Service Record Book/Officer Qualification Record or write to Headquarters, U.S. Marine Corps, Manpower and Reserve Affairs Department, Personnel Management Division, Military Awards Branch (MMMA), 3280 Russell Road, MCB Quantico, Virginia 22134-5103.

All other individuals seeking access to information about themselves contained in this system of records should contact either the Chief of Naval Operations, Navy Awards Branch (DNS-35), 2000 Navy Pentagon, Washington, DC 20350-2000 (for U.S. Navy awards) or Headquarters, U.S. Marine Corps, Manpower and Reserve Affairs Department, Personnel Management Division, Military Awards Branch (MMMA), 3280 Russell Road, MCB Quantico, Virginia 22134-5103 (for U.S. Marine Corps awards).

Requests should include full name, Social Security Number, time period of award, and must be signed.

Contesting record procedures:

The Navy's rules for accessing records and contesting contents and appealing initial agency determinations are published in Secretary of the Navy Instruction 5211.5; 32 CFR part 701; or may be obtained from the system manager.

Record source categories:

Navy Department Awards Web Service; OPNAV Form 1650/3, Personal Award Recommendation Form; general orders; military personnel file; medical file; deck logs; command histories; and award letter 1650.

Marine Corps Awards histories, the award letter 1650, Marine Corps Awards Processing System, Personal Award Recommendation (OPNAV 1650/3), Marine Corps orders, official military records, command histories, historical paper copies of personal award citations, and microfilm copies of Navy and Marine Corps 3x5 award cards.

Exemptions claimed for the system:

None.

[FR Doc. E7-4028 Filed 3-6-07; 8:45 am]

BILLING CODE 5001-06-P